DEPARTMENT OF AGRICULTURE

Forest Service

Boundary Establishment for Big Sur, Sisquoc, and Sespe National Wild and Scenic Rivers, Los Padres National Forest, Monterey Santa Barbara, and Ventura Counties, CA

AGENCY: Forest Service, USDA.

ACTION: Notice of availability.

SUMMARY: The USDA Forest Service, Washington Office, is transmitting the final Boundaries of the Big Sur, Sisquoc, and Sespe National Wild and Scenic River to Congress.

FOR FURTHER INFORMATION CONTACT: Information may be obtained by contacting Rich Phelps, Special Areas Coordinator (805) 934-9654 or Jim Turner, Forest Planner (805) 961-5752, Los Padres National Forest, 6755 Hollister Avenue, Goleta, CA 93117.

SUPPLEMENTARY INFORMATION: The Big Sur, Sisquoc, and Sespe Wild and Scenic River boundary is available for review at the following offices: USDA Forest Service, Recreation, Yates Building, 14th and Independence Avenues SW., Washington, DC 20024; Pacific Southwest Regional Office, 1323 Club Drive, Vallejo, CA 94592; and, Los Padres National Forest, 6755 Hollister Avenue, Goleta, CA 93117.

The Los Padres Condor Range and River Protection Act (Public Law 102-301) 1992, designated the Big Sur, Sisquoc, and Sespe Rivers, California, as National Wild and Scenic Rivers, to be administered by the Secretary of Agriculture. The boundaries have been delineated on the appropriate USGS Quad Sheets since 1995 and used for day to day management. Unless changed by Congress, the boundary decision will be implemented ninety days after Congress receives this transmittal.

Dated: February 25, 2002.
Jeanine Derby,
Forest Supervisor.

[FR Doc. 02-5215 Filed 3-4-02; 8:45 am]

BILLING CODE 3410-11-M